DEPARTMENT OF ENERGY

Federal Energy Regulatory Commission

[Docket No. CP01-397-000]

National Fuel Gas Supply Corporation; Notice of Application

July 12, 2001.

Take notice that on July 3, 2001, National Fuel Gas Supply Corporation (National Fuel), 10 Lafayette Square, Buffalo, New York 14203, filed an abbreviated application in Docket No. CP01-397-000 pursuant to Section 7(c) of the Natural Gas Act, as amended, and Part 157 of the Commission's Rules and Regulations, requesting a certificate of public convenience and necessity to drill a new horizontal injection/withdrawal well at its Lawtons Storage Field. The well will be located in the Town of Collins, Erie County, New York. The application is on file with the Commission and open to public inspection. Copies of this filing are on file with the Commission and are available for public inspection. This filing may also be viewed on the web at http://www.ferc.gov using the “RIMS” link, select “Docket#” and follow the instructions (call 202-208-2222 for assistance).

National Fuel proposes to drill one new horizontal injection/withdrawal well, to be designated Well 7404, at its Lawtons Storage Field. The intent of this work is to replace the deliverability that has been lost due to an ongoing caving problem that bridges off the flow of gas. Well 7404 will be drilled vertically to approximately 1,925 feet, and then will be deviated to enter the storage formation horizontally at a true vertical depth (TVD) of approximately 2,420 feet. The well will be confined totally within the existing certificated storage boundary of the Lawtons Storage Field. National Fuel states that it would need to construct approximately 110 feet of 6-inch diameter well line to connect Well 7404 to the existing 6-inch diameter storage backbone line.

National Fuel states the horizontal well will enable more efficient use of the southern section of the Lawtons Storage Field, known as the Quaker Pool, and should adequately replace the flow rate lost at the wells with exposed shale. National Fuel estimates that the proposed project would cost $490,000.

Any questions regarding the application be directed to David W. Reitz, National Fuel Gas Supply Corporation, 10 Lafayette Square, Buffalo, New York 14203, at (716) 857-7949, or at reitzd@natfuel.com.

There are two ways to become involved in the Commission's review of this project. First, any person wishing to obtain legal status by becoming a party to the proceedings for this project should, on or before August 2, 2001, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-17891 Filed 7-17-01; 8:45 am]

BILLING CODE 6717-01-U